DEPARTMENT OF TRANSPORTATION

Federal Aviation Administration

[Docket No. FAA-2020-0281]

Agency Information Collection Activities: Requests for Comments; Clearance of a Renewed Approval of Information Collection: Certification of Repair Stations, Part 145 of Title 14, CFR

AGENCY: Federal Aviation Administration (FAA), DOT.

ACTION: Notice and request for comments.

SUMMARY: In accordance with the Paperwork Reduction Act of 1995, FAA invites public comments about our intention to request the Office of Management and Budget (OMB) approval to renew an information collection. The information collection is required to receive the benefit of obtaining an FAA Air Agency Certificate, known as a certificated repair station. The collection involves the applicant entering information onto and submitting the FAA Form 8310-3. Application for Repair Station Certificate/and or Rating to the appropriate FAA field office. Persons requesting to obtain an initial Air Agency Certificate to operate as an FAA certificated repair station or request changes to an existing repair station (air agency) certificate do so by submitting the request through the submission of the FAA Form 8310-3. This form is available to the applicant/respondent via www.faa.gov, email, in person, or by mail.

The FAA Form 8310-3, Application for Repair Station Certificate and/or Ratings captures information such as, but not limited to; official name of repair station, location where business is conducted, official mailing address, any doing business as name, changes in ratings, or if initial certification, ratings sought, changes in location or housing and facilities, change in name or ownership, or any other purpose for which the applicant requests, including a request for approval to contract maintenance functions to outside entities.

The FAA has identified an inaccuracy in how burden calculations are determined associated with initial repair station certifications and subsequent changes to an existing repair station certificate. The FAA has identified that the information collected through the FAA Form 8310-3 does not capture the entire repair station certification activities or changes to an existing certificate. OMB Control Number 2120-0682 is not only authorizing the Agency to receive information collected on the FAA Form 8310-3, but should also encapsulate the entire calculation burden associated with repair station certification and subsequent changes to an existing certificate.

Once burden calculations associated with repair station certification activities are properly assessed, the FAA will publish a new notice to the Federal Register capturing the entire burden calculation for repair station certification and subsequent changes to an existing certificate.

DATES: Written comments should be submitted by

ADDRESSES: Please send written comments:

By Electronic Docket: www.regulations.gov (Enter docket number into search field)

By mail: Patricia K. Williams, Federal Aviation Administration, AFS-340, 950 L'Enfant Plaza N SW, Washington, DC 20024.

By fax: 202-267-1812.

FOR FURTHER INFORMATION CONTACT: Susan Traugott Ludwig, by email at: susan.traugott.ludwig@faa.gov; phone: 202-267-1684.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0682.

Title: Certification of Repair Stations, Part 145 of Title 14, CFR.

Form Numbers: FAA Form 8310-3.

Type of Review: Clearance of a renewal of an information collection.

Background: The FAA's authority to issue rules on aviation safety is found in Title 49 of the United States Code. Subtitle I, section 106, describes the authority of the FAA Administrator. Subtitle VII, Aviation Programs, describes in more detail the scope of the agency's authority. Rulemaking was promulgated under the authority described in title 49, subtitle VII, part A, subpart III, section 44701, General requirements, and section 44707, Examining and rating air agencies. Under section 44701, the FAA may prescribe regulations and standards in the interest of safety for inspecting, servicing, and overhauling aircraft, aircraft engines, propellers, and appliances. The FAA may also prescribe equipment and facilities for, and the timing and manner of, inspecting, servicing, and overhauling these items. Under section 44707, the FAA may examine and rate repair stations. 14 Part 145 is within the scope of section 44707.

14 CFR part 145 prescribes the requirements for the issuance of repair station certificates. The FAA Form 8310-3, Application for Repair Station Certificate and/or Rating is available to the applicant who wishes to obtain initial repair station certification or submit changes to an existing air agency certificate. The applicant voluntarily submits the application to the appropriate FAA office by mail or email for review and acceptance. The applicant enters the information required for certification or changes to the existing certificate, which consists of; official name of repair station, location where business is conducted, official mailing address, any doing business as name, changes in ratings, or if initial certification, ratings sought, changes in location or housing and facilities, change in name or ownership, or any other purpose for which the applicant requests, including a request for approval to contract maintenance functions to outside entities. Once the FAA reviews the submitted application and finds the applicant has the ability to comply with the 14 CFR part 145 requirements for certification, an air agency certificate and ratings is issued. The FAA retains a copy of the application in the FAA office that issued the certificate for an indefinite time or a time-period specified by the Agency's Records Management Order 1350.14B, mandated by the Federal Records Act of 1950, as amended. The applicant is not required to retain a copy of the form. The FAA does not provide other persons or entities with information contained in the form.

Respondents: There were a total of 129 applications submitted to the FAA in fiscal year (FY) 2019. Out of the 129 applications, 64 applications were for submitted for initial certification.

Frequency: Information is collected on occasion. One time for initial certification and when or if an existing certificated repair station request changes to their certificate.

Estimated Average Burden per Response: 15 minutes.

Estimated Total Annual Burden: 32.25 hours annual burden for FY2019. There is no requirement for a respondent to submit this form annually.

Issued in Washington, DC, on March 17, 2020.
Susan Traugott Ludwig,
Federal Aviation Administration, Office of Safety Standards, Aircraft Maintenance Division, Repair Station Branch, AFS-340.

[FR Doc. 2020-05893 Filed 3-19-20; 8:45 am]

BILLING CODE 4910-13-P